DEPARTMENT OF THE INTERIOR

National Park Service

Official insignia for the Volunteers-in-Parks program

AGENCY: National Park Service, Interior.

ACTION: Official insignia designation.

SUMMARY: This notice serves as official designation of the insignia (shown below) for the National Park Service Volunteers-in-Parks (VIP) program. It replaces an earlier insignia in use since 1970.

DATES: Action described will be effective upon publication of this notice.

FOR FURTHER INFORMATION CONTACT: Joy Pietschmann, Service-wide VIP Program Coordinator, National Park Service, 1849 C Street, NW., Mailstop 2450, Washington, DC 20240. Telephone: (202) 513-7141. E-mail: Joy_Pietschmann@nps.gov.

SUPPLEMENTARY INFORMATION: Authority for the National Park Service VIP program is found in the Volunteers in the Parks Act of 1969, 16 U.S.C. 18g-18j.

The insignia depicted replaces an earlier symbol developed in 1970. It will serve as the official uniform patch and logo for the VIP program. The National Park Service began using the new insignia in January 2004. Use of the insignia is controlled by the Director of the National Park Service.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of 18 U.S.C. 701.

Dated: August 18, 2004.
Christopher Jarvi,
Associate Director for Partnerships, Interpretation and Education, Volunteers, and Outdoor Recreation.

[FR Doc. 04-22568 Filed 10-6-04; 8:45 am]

BILLING CODE 4312-52-M